NUCLEAR REGULATORY COMMISSION

10 CFR Part 72

[NRC-2012-0020]

RIN 3150-AJ10

List of Approved Spent Fuel Storage Casks: Transnuclear, Inc. Standardized NUHOMS® Cask System

AGENCY: Nuclear Regulatory Commission.

ACTION: Direct final rule; confirmation of effective date.

SUMMARY: The U.S. Nuclear Regulatory Commission (NRC) is confirming the effective date of January 7, 2014, for the direct final rule that was published in the Federal Register on October 24, 2013. This direct final rule amended the NRC's spent fuel storage regulations by revising the Transnuclear, Inc. Standardized NUHOMS® Cask System listing within the “List of Approved Spent Fuel Storage Casks” to include Amendment No. 11 to Certificate of Compliance (CoC) No. 1004.

DATES: The effective date of January 7, 2014, is confirmed for the direct final rule published October 24, 2013 (78 FR 63375).

ADDRESSES: Please refer to Docket ID NRC-2012-0020 when contacting the NRC about the availability of information for this direct final rule. You may access publicly-available information related to this direct final rule by any of the following methods:

• Federal Rulemaking Web site: Go to http://www.regulations.gov and search for Docket ID NRC-2012-0020. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Gregory Trussell, Office of Federal and State Materials and Environmental Management Programs, U.S. Nuclear Regulatory Commission, Washington, DC 20555-0001, telephone: 301-415-6445, email: Gregory.Trussell@nrc.gov.

SUPPLEMENTARY INFORMATION:

I. Discussion

On October 24, 2013 (78 FR 63375), the NRC published a direct final rule amending its regulations at § 72.214 of Title 10 of the Code of Federal Regulations (10 CFR) by revising the Transnuclear, Inc. Standardized NUHOMS® Cask System listing within the “List of Approved Spent Fuel Storage Casks” to include Amendment No. 11 to CoC No. 1004. Amendment No. 11 added a new transfer cask, the OS197L, for use with the 32PT and 61BT dry shielded canisters, and converted the CoC No. 1004 Technical Specifications to the format in NUREG-1745, “Standard Format and Content for Technical Specifications for 10 CFR Part 72 Cask Certificates of Compliance.” In addition, the amendment made several other changes as described in Section III, “Discussion of Changes,” section of the direct final rule.

II. Public Comments on the Companion Proposed Rule

In the direct final rule, the NRC stated that if no significant adverse comments were received, the direct final rule would become effective on January 7, 2014. The NRC received one public comment on the companion proposed rule (78 FR 63408), from Mr. Richard Ochs (ADAMS Accession No. ML13320A027). Mr. Ochs stated his concern that the neutron emissions inside the outer shell of nuclear waste storage containers are dangerous to living organisms, including insects, microbes, bacteria or virus that attach to dust that passes through the screened windows in the outer steel covers of storage containers. Specifically, Mr. Ochs raises a concern based on the emergence of Lyme's Disease in Lyme, Connecticut, which he asserts occurred following an unintended release of radioactive gas from the nearby Millstone Nuclear Reactor. According to his comment, “[T]he Deer Tick has carried a spirochete bacteria for millions of years, but after the Millstone release, that spirochete was mutated, causing the emergence of Lyme's Disease.”

The NRC staff reviewed this comment and concluded that this comment is not a significant adverse comment as defined in NUREG-BR-0053, Revision 6, “United States Nuclear Regulatory Commission Regulations Handbook” (ADAMS Accession No. ML052720461), as it is beyond the scope of this rulemaking. Instead, this comment raises a generic concern regarding the use of any spent fuel storage casks and is not specific to any issue or concern with the amendment to the cask certificate that is the subject of this rulemaking effort.

Moreover, the NRC staff has concluded that there would be no significant environmental impacts as confirmed in Section VII, “Finding of No Significant Environmental Impact: Availability,” of the direct final rule. This comment does not challenge that finding because, as the Environmental Assessment explained, this amendment to the rule will not result in any significant change in the types or significant revisions in the amounts of any effluent released, no significant increase in the individual or cumulative radiation exposure, and no significant increase in the potential for or consequences from radiological accidents. This amendment continues to ensure that the Commission's regulations regarding dose rates, found in 10 CFR Part 20, are maintained. A challenge to those dose rates, or the method by which the Commission establishes those dose rates, would be most appropriately addressed as a petition for rulemaking pursuant to 10 CFR 2.802. Therefore, this rule will become effective as scheduled.

Dated at Rockville, Maryland, this 20th day of December 2013.
For the Nuclear Regulatory Commission.
Helen Chang,
Acting Chief, Rules, Announcements, and Directives Branch, Division of Administrative Services, Office of Administration.

[FR Doc. 2013-31080 Filed 12-26-13; 8:45 am]

BILLING CODE 7590-01-P